DEPARTMENT OF HOMELAND SECURITY

Bureau of Customs and Border Protection

Notice of Availability for Public Viewing of Draft Programmatic Environmental Assessment Concerning CBP's Use of the Vehicle and Cargo Inspection System (VACIS) at Various Sea and Land Ports of Entry

AGENCY: Customs and Border Protection, Department of Homeland Security.

ACTION: General notice.

SUMMARY: This document announces that a draft Programmatic Environmental Assessment (PEA) regarding potential environmental impacts resulting from Customs and Border Protection's (CBP) deployment of the Vehicle and Cargo Inspection System (VACIS) is available for public review and comment. The VACIS system will be used at various ports of entry throughout the United States and Puerto Rico and is designed to provide a significant non-intrusive (gamma ray) inspection capability to assist CBP in its mission to prevent the entry of contraband into the United States. CBP will consider comments before issuing a final PEA and will then issue a draft Supplemental Environmental Assessment covering each local site affected to assess the environmental impact on local conditions.

DATES: The draft PEA will be available for public review for a 30-day period beginning on May 12, 2004. Written comments must be received by June 28, 2004.

ADDRESSES: Written comments may be submitted to U.S. Customs and Border Protection, Suite 1575, 1300 Pennsylvania Avenue, NW., Washington, DC 20229, Attn: Mr. Thomas Nelson. Copies of the draft PEA will be available for viewing at the above address. Copies may also be obtained by calling 202/344-2975 and by accessing the following Internet address (click on “Recent Federal Register Notices”): http://www.cbp.gov/xp/cgov/toolbox/legal.

FOR FURTHER INFORMATION CONTACT: Mr. Thomas Nelson at 202/344-2975 or at THOMAS.Nelson@associates.dhs.gov.

SUPPLEMENTARY INFORMATION:

Background

The VACIS System

CBP's Vehicle and Cargo Inspection System (the VACIS system) provides a means for combatting the smuggling of contraband, including implements of terrorism, into the United States. The VACIS system employs a non-intrusive inspection technique that uses low energy gamma radiation technology; it allows CBP inspectors to inspect for contraband without having to physically enter into or unload motor vehicles, containers, or other conveyances. The system is designed to augment the capabilities of the CBP inspector and enhance the efficiency and effectiveness of CBP's enforcement mission. Deployment of VACIS technology is already underway and will continue at various land and sea ports of entry throughout the United States and Puerto Rico. Given the serious nature of CBP's mission to protect the nation's borders from terrorism, it is envisioned that all ports are candidates for deployment of VACIS technology in the future.

The VACIS system consists of four configurations, described as follows:

(1) A semi-permanent version designed for inspection of motor vehicles and cargo containers at Customs ports of entry (VACIS II);

(2) A truck-mounted version designed for high-portability inspection of motor vehicles and cargo containers (Mobile VACIS);

(3) A fixed version designed specifically for installation along railroad rights of way for the inspection of railroad cars (Rail VACIS); and

(4) A Fixed Pallet Gamma Ray (FPGR) system designed for inspection of items stored on pallets and in boxes or crates (Pallet VACIS).

Public Review of the Draft Programmatic Environmental Assessment

Pursuant to the National Environmental Policy Act of 1969 (NEPA), the Council on Environmental Quality (CEQ) Regulations for Implementing the NEPA (40 CFR parts 1500-1508), and Department of the Treasury Directive 75-02 (Department of the Treasury Environmental Quality Program), CBP has prepared a draft Programmatic Environmental Assessment (PEA) covering the deployment of the VACIS system.

This notice announces a 30-day period for public review of the draft PEA and a 45-day period for submitting comments to CBP, both periods commencing on the date this document is published in the Federal Register.

Evaluation of Environmental Impact

For all proposals of major Federal actions that significantly affect the quality of the human environment, NEPA requires that the environmental implications of the proposal are to be explored. To meet this requirement, a Federal agency, in some instances, must produce an Environmental Impact Statement (EIS) that examines the environmental implications (or impacts) of a major Federal action. Under § 1508.18(a) of the CEQ Regulations (40 CFR 1508.18(a)), a major Federal action includes new and continuing agency activities. The VACIS system is a new and continuing CBP activity. In other instances, an agency will prepare an Environmental Assessment preliminary to production of either an EIS or a Finding of No Significant Impact (FONSI). The effect of a FONSI is that an agency will not have to produce an EIS. In still other instances, the agency need not produce either an EA or an EIS.

Under section 8b of Treasury Directive 75-02, an EA must be prepared whenever it appears that an agency action, including the continuance of any action or program already initiated, could constitute a major action significantly affecting the quality of the human environment. An EA is a concise public statement issued by a responsible federal agency that provides sufficient evidence and analysis for determining whether to prepare either an EIS or a FONSI. Under the regulation and section 8d of Treasury Directive 75-02, an EA must describe the proposed action (or the continuing action) and the need for it; briefly describe the environmental impacts of, and alternatives to, the proposed/continued action, including mitigating measures; list the agencies and persons consulted; and provide a brief analysis for determining whether to prepare an EIS or a FONSI.

A Programmatic Environmental Assessment (PEA) is a type of EA which, with respect to a major Federal action, covers relevant environmental matters in a broad and general manner, such as a national program or policy statement. The PEA is later followed by subsequent narrower statements or analyses, such as regional program statements or site-specific statements. The draft PEA announced in this notice evaluates the potential environmental impacts resulting from deployment of the VACIS system as a nationally implemented program. Among the potential impacts evaluated are those regarding: geology and soils, hydrology and water quality, wetlands, vegetation and wildlife, air quality, noise, and radiological consequences. Also, an evaluation of alternatives to the action (deployment of the system) is included, in accordance with CEQ regulations (40 CFR 1501.2(c)).

Substantive comments received from the public and agencies during the comment period will be addressed in, and included as an Appendix to, the final PEA. Notice of issuance of the final PEA will be published in the Federal Register, as well as in a newspaper of general circulation in each locality where any VACIS configuration is or will be deployed.

Should CBP determine, based on the information developed and evaluation of substantive comments received, that the design, new construction, and/or operation of VACIS system configurations 1 through 4 will not have a significant impact on the environment, CBP will prepare a FONSI. Notice of the FONSI will be published in the Federal Register and in a newspaper of general circulation in each locality where a VACIS configuration is/will be deployed. Should CBP determine that significant environmental impacts exist due to the project, CBP will proceed with preparation of an EIS as required under the NEPA, the CEQ Regulations (40 CFR part 1502), and the Department of the Treasury's environmental policies and procedures.

Supplemental Environmental Assessments

After issuance of the draft PEA, review of comments received, and issuance of a final PEA, Customs will issue a draft Supplemental Environmental Assessment (also known as a Supplemental Environmental Document or SED) for each affected port. Each SED will address each local deployment site within a particular port, evaluating potential environmental impacts with respect to the particular conditions present at each site. Each draft SED will solicit public comment, and substantive comments received will be included in the Appendix to a final SED. Notice of the SED will be published in the Federal Register and in a local newspaper of general circulation in the particular affected locality. At that time, after receipt and evaluation of comments, CBP will determine whether to prepare a FONSI or an EIS with respect to each affected port.

Public Review and Comments

The draft PEA will be available for public review for a period of 30 days beginning on the date this document is published in the Federal Register. The draft PEA can be reviewed at the following address: U.S. Customs and Border Protection, Suite 1575, 1300 Pennsylvania Ave., NW., Washington, DC 20229. Contact Mr. Thomas Nelson to make arrangements at 202/344-2975. Copies of the draft PEA may be obtained by telephone request (202/344-2975) or by accessing the following Internet address (click on “Recent Federal Register Notices”): http://www.cbp.gov/xp/cgov/toolbox/legal.

Comments regarding the draft PEA may be submitted as set forth in the ADDRESSES section of this document.

Dated: April 9, 2004.
Charles R. Armstrong,
Acting Assistant Commissioner, Office of Information and Technology.

[FR Doc. 04-10731 Filed 5-11-04; 8:45 am]

BILLING CODE 4820-02-P